DEPARTMENT OF THE INTERIOR

Office of the Secretary

48 CFR Chapter 14

RIN 1093-AA11

Acquisition Regulation Rewrite

AGENCY: Office of the Secretary, Interior.

ACTION: Final rule.

SUMMARY: The Department of the Interior (DOI) has adopted as final an interim rule amending the Department of the Interior Acquisition Regulation (DIAR). This action revises the DIAR, 48 CFR chapter 14, but does not impose any new requirements on DOI contractors. The revisions to the DIAR published in the interim rule became effective May 17, 2010.

DATES: This rule is effective on August 12, 2010.

FOR FURTHER INFORMATION CONTACT: Tiffany A. Schermerhorn, Senior Procurement Analyst, Office of Acquisition and Property Management, Office of the Secretary, telephone (202) 513-0747, fax (202) 219-4244, or e-mail tiffany_schermerhorn@ios.doi.gov.

SUPPLEMENTARY INFORMATION:

DOI published an interim final rule in the Federal Register at 75 FR 19828 on April 15, 2010, to revise the Department of the Interior Acquisition Regulation (DIAR) in order to update references to other Federal and Departmental directives, remove obsolete material and references, and clarify and streamline internal policies and procedures.

The comment period closed June 14, 2010. No public comments were received. DOI has concluded that the interim rule should be adopted as a final rule with no changes.

List of Subjects in 48 CFR Chapter 14

Government procurement.

Accordingly, the interim rule published in the Federal Register at 75 FR 19828 on April 15, 2010, is adopted as final without change.

Dated: August 3, 2010.
Pamela K. Haze,
Deputy Assistant Secretary, Budget, Finance, Performance and Acquisition.

[FR Doc. 2010-19891 Filed 8-11-10; 8:45 am]

BILLING CODE P